DEPARTMENT OF THE INTERIOR

Bureau of Land Management

[LLMTL06000-L14300000.ET0000; MTM 89170]

Public Land Order No. 7753; Extension of Public Land Order No. 7464; Montana

AGENCY: Bureau of Land Management, Interior.

ACTION: Public Land Order.

SUMMARY: This order further extends the duration of the withdrawal created by Public Land Order No. 7464 for an additional 5-year period. This extension is necessary to continue protection of the Bureau of Land Management's Zortman-Landusky mining area which would otherwise expire on October 4, 2010.

DATES: Effective Date: October 5, 2010.

FOR FURTHER INFORMATION CONTACT: Micah Lee, Bureau of Land Management, Lewistown Field Office, P.O. Box 1160, Lewistown, Montana 59457, (406) 538-1910, or Sandra Ward, Bureau of Land Management, Montana State Office, 5001 Southgate Drive, Billings, Montana 59101-4669, (406) 896-5052.

SUPPLEMENTARY INFORMATION: The purpose for which the withdrawal was first made requires this extension to continue protection of the Zortman-Landusky mining area until reclamation is completed. The withdrawal has been extended once by Public Land Order No. 7643 (70 FR 49944 (2005)).

Order

By virtue of the authority vested in the Secretary of the Interior by Section 204 of the Federal Land Policy and Management Act of 1976, 43 U.S.C. 1714, it is ordered as follows:

1. Public Land Order No. 7464 (65 FR 59463 (2000)), as extended by Public Land Order No. 7643 (70 FR 49944 (2005)), which withdrew 3,530.62 acres of public land from settlement, sale, location, or entry under the general land laws, including the United States mining laws (30 U.S.C. ch. 2), to protect the Zortman-Landusky Mining Area, is hereby further extended for an additional 5-year period.

2. Public Land Order No. 7464 will expire October 4, 2015, unless, as a result of a review conducted prior to the expiration date pursuant to Section 204(f) of the Federal Land Policy and Management Act of 1976, 43 U.S.C. 1714(f), the Secretary determines that the withdrawal shall be further extended.

Dated: October 4, 2010.
Wilma A. Lewis,
Assistant Secretary—Land and Minerals Management.

[FR Doc. 2010-26170 Filed 10-15-10; 8:45 am]

BILLING CODE 4310-DN-P